DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by August 18, 2003.

Title and OMB Number: Prospective Studies of U.S. Military Forces: The Millennium Cohort Study; OMB Number 0720—[To Be Determined].

Type of Request: New Collection.

Number of Respondents: 19,200.

Responses Per Respondent: 19,200.

Annual Responses: 30,000.

Average Burden Per Response: 45 minutes.

Annual Burden Hours: 14,400.

Needs and Uses: The purpose of the study is designed to systematically collect population-based demographic and health data to evaluate the health of service personnel throughout their military careers and after leaving military service. The principal objective of the study is to evaluate the impact of military deployments on various measures of health over time.

Affected Public: Individuals or Households.

Frequency: On Occasion.

Respondent's Obligation: Voluntary.

OMB Desk Officer: Ms. Cristal A. Thomas.

Written comments and recommendations on the proposed information collection should be sent to Ms. Thomas at the Office of Management and Budget, Desk Officer, for DoD Health Affairs, Room 10235, New Executive Office Building, Washington, DC 20503.

DoD Clearance Officer: Mr. Robert Cushing.

Written requests for copies of the information collection proposal should be sent to Mr. Cushing, WHS/DIOR, 1215 Jefferson Davis Highway, Suite 1204, Arlington, VA 22202-4302.

Dated: July 11, 2003.
Patricia L. Toppings,
Alternate OSD Federal Register Liaison Officer, Department of Defense.

[FR Doc. 03-18105 Filed 7-16-03; 8:45 am]

BILLING CODE 5001-08-M